DEPARTMENT OF ENERGY

Federal Energy Regulatory Commission

Notice of Settlement Agreement and Soliciting Comments

December 30, 2002.

Take notice that the following settlement agreement has been filed with the Commission and is available for public inspection.

a. Type of Application: Settlement Agreement.

b. Project No.: P-1932-004.

c. Date filed: December 6, 2002.

d. Applicant: Southern California Edison Company (SCE).

e. Name of Project: Lytle Creek Project.

f. Location: On Lytle Creek, in the Town of Devore, San Bernardino County, California. The project occupies 29.06 acres of land within the San Bernardino National Forest.

g. Filed Pursuant to: Rule 602 of the Commission's Rules of Practice and Procedure, 18 CFR 385.602.

h. Applicant Contact: Nino J. Mascolo, SCE, 2244 Walnut Grove Ave., Rosemead, California 91770 (626) 302-4459.

i. FERC Contact: Jon Cofrancesco, (202) 502-8951, jon.cofrancesco@ferc.gov.

j. Deadline for filing comments: January 14, 2003 Reply comments due January 24, 2003. This extends the 20-day comment period, provided by 18 CFR 385.602(f)(2).

All documents (original and eight copies) should be filed with: Magalie R. Salas, Secretary, Federal Energy Regulatory Commission, 888 First Street, NE., Washington, DC 20426. Please affix Project No. 1932-004 to all comments.

The Commission's Rules of Practice require all interveners filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site ( http://www.ferc.gov ) under the “e-Filing” link.

k. Description of Filing: SCE filed the Offer of Settlement on behalf of itself, the U.S. Forest Service (USFS), and Fontana Union Water Company. The purpose of the Offer of Settlement is to resolve among the signatories project bypass flow and stream channel management issues associated with the USFS's Final 4(e) Conditions and the relicensing of the Lytle Creek Project. The signatories ask the Commission to accept the Offer of Settlement and incorporate the terms of Appendix A to the Settlement Agreement into any new license issued for the project.

l. A copy of the settlement agreement is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above.

Linwood A. Watson, Jr.,
Deputy Secretary.

[FR Doc. 03-127 Filed 1-3-03; 8:45 am]

BILLING CODE 6717-01-P